DEPARTMENT OF ENERGY

Federal Energy Regulatory Commission

Combined Notice of Filings #1

Take notice that the Commission received the following exempt wholesale generator filings:

Docket Numbers: EG14-10-000.

Applicants: Elgin Energy Center, LLC.

Description: Notice of Self-Certification as an Exempt Wholesale Generator of Elgin Energy Center, LLC.

Filed Date: 10/25/13.

Accession Number: 20131025-5139.

Comments Due: 5 p.m. ET 11/15/13.

Docket Numbers: EG14-11-000.

Applicants: Grand Tower Energy Center, LLC.

Description: Notice of Self-Certification as an Exempt Wholesale Generator of Grand Tower Energy Center, LLC.

Filed Date: 10/25/13.

Accession Number: 20131025-5140.

Comments Due: 5 p.m. ET 11/15/13.

Take notice that the Commission received the following electric rate filings:

Docket Numbers: ER10-1786-004.

Applicants: Credit Suisse Energy LLC.

Description: Revised Appendix B and Clarification of Affiliations of Credit Suisse Energy LLC.

Filed Date: 10/28/13.

Accession Number: 20131028-5075.

Comments Due: 5 p.m. ET 11/18/13.

Docket Numbers: ER13-611-001.

Applicants: NorthWestern Corporation.

Description: Compliance Filing—SA 664 and 665—TSAs with PPL Montana to be effective 1/1/2014.

Filed Date: 10/25/13.

Accession Number: 20131025-5110.

Comments Due: 5 p.m. ET 11/15/13.

Docket Numbers: ER13-2091-001.

Applicants: Southwest Power Pool, Inc.

Description: Credit Policy Criteria Compliance to be effective 3/1/2014.

Filed Date: 10/25/13.

Accession Number: 20131025-5117.

Comments Due: 5 p.m. ET 11/15/13.

Docket Numbers: ER14-75-001.

Applicants: Entergy Arkansas, Inc.

Description: Metadata Correction—Sec. 1.01 Amendment to be effective 12/31/9998.

Filed Date: 10/25/13.

Accession Number: 20131025-5099.

Comments Due: 5 p.m. ET 11/15/13.

Docket Numbers: ER14-76-001.

Applicants: Entergy Gulf States Louisiana, L.L.C.

Description: Metadata Correction—Section 1.01 Amendment to be effective 12/31/9998.

Filed Date: 10/25/13.

Accession Number: 20131025-5104.

Comments Due: 5 p.m. ET 11/15/13.

Docket Numbers: ER14-77-001.

Applicants: Entergy Louisiana, LLC.

Description: Metadata Correction—Section 1.01 Amendment to be effective 12/31/9998.

Filed Date: 10/25/13.

Accession Number: 20131025-5105.

Comments Due: 5 p.m. ET 11/15/13.

Docket Numbers: ER14-78-001.

Applicants: Entergy Mississippi, Inc.

Description: Metadata Correction—Section 1.01 Amendment to be effective 12/31/9998.

Filed Date: 10/25/13.

Accession Number: 20131025-5106.

Comments Due: 5 p.m. ET 11/15/13.

Docket Numbers: ER14-79-001.

Applicants: Entergy New Orleans, Inc.

Description: Metadata Correction—Section 1.01 Amendment to be effective 12/31/9998.

Filed Date: 10/25/13.

Accession Number: 20131025-5107.

Comments Due: 5 p.m. ET 11/15/13.

Docket Numbers: ER14-80-001.

Applicants: Entergy Texas, Inc.

Description: Metadata Correction—Section 1.01 Amendment to be effective 12/31/9998.

Filed Date: 10/25/13.

Accession Number: 20131025-5108.

Comments Due: 5 p.m. ET 11/15/13.

Docket Numbers: ER14-106-001.

Applicants: Midcontinent Independent System Operator, Inc.

Description: 2013-10-25 MWP Gaming Amend to be effective 10/17/2013.

Filed Date: 10/28/13.

Accession Number: 20131028-5000.

Comments Due: 5 p.m. ET 11/6/13.

Docket Numbers: ER14-183-000.

Applicants: New England Power Company.

Description: Small Generator Interconnection Agreement with Vuelta Solar & CEII Request to be effective 9/17/2013.

Filed Date: 10/25/13.

Accession Number: 20131025-5093.

Comments Due: 5 p.m. ET 11/15/13.

Docket Numbers: ER14-184-000.

Applicants: ITC Midwest LLC.

Description: Concurrence with IPL's Amended and Restated O&T Agreement to be effective 9/27/2013.

Filed Date: 10/25/13.

Accession Number: 20131025-5109.

Comments Due: 5 p.m. ET 11/15/13.

Docket Numbers: ER14-185-000.

Applicants: New England Power Company.

Description: Small Generator Interconnection Agmt with Old Wardour Holdings & CEII Request to be effective 9/17/2013.

Filed Date: 10/25/13.

Accession Number: 20131025-5111.

Comments Due: 5 p.m. ET 11/15/13.

Docket Numbers: ER14-186-000.

Applicants: Southwestern Public Service Company.

Description: Southwestern Public Service Company submits 10-28-13_RS114 SPS-CVEC to be effective 1/1/2013.

Filed Date: 10/28/13.

Accession Number: 20131028-5001.

Comments Due: 5 p.m. ET 11/18/13.

Docket Numbers: ER14-187-000.

Applicants: Southwestern Public Service Company.

Description: Southwestern Public Service Company submits 10-28-13_RS115 SPS-FEC to be effective 1/1/2013.

Filed Date: 10/28/13.

Accession Number: 20131028-5002.

Comments Due: 5 p.m. ET 11/18/13.

Docket Numbers: ER14-188-000.

Applicants: Southwestern Public Service Company.

Description: Southwestern Public Service Company submits 10-28-13_RS116 SPS-LCEC to be effective 1/1/2013.

Filed Date: 10/28/13.

Accession Number: 20131028-5003.

Comments Due: 5 p.m. ET 11/18/13.

Docket Numbers: ER14-189-000.

Applicants: Southwestern Public Service Company.

Description: Southwestern Public Service Company 10-28-13_RS117 SPS-REC to be effective 1/1/2013.

Filed Date: 10/28/13.

Accession Number: 20131028-5004.

Comments Due: 5 p.m. ET 11/18/13.

Docket Numbers: ER14-190-000.

Applicants: Southwestern Public Service Company.

Description: Southwestern Public Service Company submits 10-28-13_RS118 SPS_Sharyland to be effective 1/1/2013.

Filed Date: 10/28/13.

Accession Number: 20131028-5005.

Comments Due: 5 p.m. ET 11/18/13.

Docket Numbers: ER14-191-000.

Applicants: Southwestern Public Service Company.

Description: Southwestern Public Service Company submits 10-28-13_RS137 SPS-WTMPA to be effective 1/1/2013.

Filed Date: 10/28/13.

Accession Number: 20131028-5006.

Comments Due: 5 p.m. ET 11/18/13.

Docket Numbers: ER14-192-000.

Applicants: Southwestern Public Service Company.

Description: Southwestern Public Service Company submits 10-28-13_RS135 SPS-GSEC to be effective 1/1/2013.

Filed Date: 10/28/13.

Accession Number: 20131028-5007.

Comments Due: 5 p.m. ET 11/18/13.

Docket Numbers: ER14-193-000.

Applicants: Southwest Power Pool, Inc.

Description: Southwest Power Pool, Inc. submits 2513 Generation Energy, Inc. GIA Cancellation to be effective 1/1/2014.

Filed Date: 10/28/13.

Accession Number: 20131028-5024.

Comments Due: 5 p.m. ET 11/18/13.

Docket Numbers: ER14-194-000.

Applicants: Duke Energy Florida, Inc.

Description: Duke Energy Florida, Inc. submits Cancellation of Duke Energy Florida, Inc. Cost-Based Rates Tariffs to be effective 12/27/2013.

Filed Date: 10/28/13.

Accession Number: 20131028-5041.

Comments Due: 5 p.m. ET 11/18/13.

Docket Numbers: ER14-195-000.

Applicants: Duke Energy Florida, Inc.

Description: Duke Energy Florida, Inc. submits CBR Name Change to be effective 12/27/2013.

Filed Date: 10/28/13.

Accession Number: 20131028-5042.

Comments Due: 5 p.m. ET 11/18/13.

Docket Numbers: ER14-196-000.

Applicants: Duke Energy Florida, Inc.

Description: Duke Energy Florida, Inc. submits Cancellation of Duke Energy Florida, Inc. OATT and Service Agreements to be effective 12/24/2013.

Filed Date: 10/28/13.

Accession Number: 20131028-5054.

Comments Due: 5 p.m. ET 11/18/13.

Docket Numbers: ER14-197-000.

Applicants: Duke Energy Florida, Inc.

Description: Duke Energy Florida, Inc. submits OATT Name Change to be effective 12/10/2013.

Filed Date: 10/28/13.

Accession Number: 20131028-5056.

Comments Due: 5 p.m. ET 11/18/13.

Docket Numbers: ER14-198-000.

Applicants: Duke Energy Florida, Inc.

Description: Duke Energy Florida, Inc. submits Rate Schedules Name Change Filing No. 1 to be effective 12/24/2013.

Filed Date: 10/28/13.

Accession Number: 20131028-5061.

Comments Due: 5 p.m. ET 11/18/13.

Docket Numbers: ER14-199-000.

Applicants: Lakewood Cogeneration Limited Partnership.

Description: Lakewood Cogeneration Limited Partnership submits Filing of Reactive Tariff to be effective 1/1/2014.

Filed Date: 10/28/13.

Accession Number: 20131028-5064.

Comments Due: 5 p.m. ET 11/18/13.

Docket Numbers: ER14-200-000.

Applicants: Duke Energy Florida, Inc.

Description: Duke Energy Florida, Inc. submits Cancellation of Duke Energy Florida, Inc. Rate Schedules to be effective 12/20/2013.

Filed Date: 10/28/13.

Accession Number: 20131028-5065.

Comments Due: 5 p.m. ET 11/18/13.

Docket Numbers: ER14-201-000.

Applicants: PacifiCorp.

Description: PacifiCorp submits Termination of NextEra Mutual Termination of Trans Service Agmt to be effective 1/14/2014.

Filed Date: 10/28/13.

Accession Number: 20131028-5080.

Comments Due: 5 p.m. ET 11/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2013.
Nathaniel J. Davis, Sr.,
Deputy Secretary.

[FR Doc. 2013-26964 Filed 11-8-13; 8:45 am]

BILLING CODE 6717-01-P